DEPARTMENT OF TRANSPORTATION

Federal Motor Carrier Safety Administration

[Docket No. FMCSA-2011-0097]

Pilot Program on the North American Free Trade Agreement (NAFTA) Long-Haul Trucking Provisions; Correction

AGENCY: Federal Motor Carrier Safety Administration (FMCSA), DOT.

ACTION: Notice; correction.

SUMMARY: The Federal Motor Carrier Safety Administration published a document in the Federal Register of July 8, 2011, concerning a response to comments in regards to an April 8, 2011 notice announcing a pilot program on the North American Free Trade Agreement (NAFTA) long-haul trucking provisions. The document contained an incorrect phone number.

FOR FURTHER INFORMATION CONTACT: Marcelo Perez, (512) 916-5440, extension 228.

Correction

In the Federal Register of July 8, 2011, in FR Doc. 2011-16886, on page 40420, in the third column, correct the FOR FURTHER INFORMATION CONTACT caption to read:

FOR FURTHER INFORMATION CONTACT: Mr. Marcelo Perez, FMCSA, 1200 New Jersey Avenue, SE., Washington, DC 20590-0001. Telephone (512) 916-5440, extension 228; e-mail marcelo.perez@dot.gov.

Issued on: July 13, 2011.
Larry W. Minor,
Associate Administrator for Policy.

[FR Doc. 2011-18033 Filed 7-15-11; 8:45 am]

BILLING CODE 4910-EX-P